DEPARTMENT OF TRANSPORTATION

Maritime Administration

46 CFR Part 307

[Docket No. MARAD-2000-7706]

AMVER Bulletin Availability; Technical Amendment

AGENCY: Maritime Administration, Transportation.

ACTION: Technical amendment.

SUMMARY: The Maritime Administration (MARAD) is updating information regarding an address change for the availability of the “AMVER Bulletin”. The intended effect of this technical amendment is to provide accurate information for the availability of the “AMVER Bulletin”. This technical amendment updates an address and is effective without delay because it is nonsubstantive.

DATES: Effective on August 3, 2000.

FOR FURTHER INFORMATION CONTACT: Walter Lockland, Chief, Division of Operations Support, (202) 366-2629, Maritime Administration MAR-613, Room 2123, 400 7th St., SW., Washington, DC, 20590-0001, or you may send e-mail to: walter.lockland@marad.dot.gov.

ADDRESSES: This technical amendment is available for inspection with the Docket Clerk, U.S. DOT Dockets, Room PL-401, Department of Transportation, 400 7th Street, SW., Washington, DC 20590-0001, between 10 a.m. and 5 p.m. E.T. Monday through Friday, except federal holidays. You may also view this document via the Internet at http://dms.dot.gov by using the search function and entering the docket number [MARAD-2000-7706].

SUPPLEMENTARY INFORMATION:

Background

Operators of U.S.-flag oceangoing vessels in U.S. foreign trade and certain foreign-flag vessels must report on their locations pursuant to 46 CFR part 307 to enhance the safety of vessel operations at sea and provide a contingency for events of national emergency. AMVER means Automated Mutual-Assistance Vessel Rescue System operated by the U.S. Coast Guard. The “AMVER Bulletin” is available from the U.S. Coast Guard, AMVER Maritime Relations Office, Battery Park Building, New York, NY 10004.

Previously, the “AMVER Bulletin” was available from the U.S. Coast Guard at AMVER Center, Governors Island, New York, NY 10004. However, the U.S. Coast Guard base on Governors Island is closed. Therefore, we are updating the address to reflect the Coast Guard's change of location.

List of Subjects in 46 CFR Part 307

Marine safety, Maritime carriers, Penalties, Reporting and recordkeeping requirements.

Accordingly, 46 CFR part 307 is amended as follows:

PART 307—ESTABLISHMENT OF MANDATORY POSITION REPORTING SYSTEM FOR VESSELS

1. The authority citation for part 307 continues to read as follows:

Authority: Secs. 204(b), 212(A), 1203(a), Merchant Marine Act, 1936, as amended (46 App. U.S.C. 1114(b), 1122(a), 1283); Pub. L. 97-31; 46 CFR 1.66.

2. In § 307.13, revise the third sentence to read as follows:

§ 307.13 Where to report.

* * * The “AMVER Bulletin” is available from AMVER Maritime Relations Office, U.S. Coast Guard, Battery Park Building, New York, NY 10004. * * *

Dated: July 27, 2000.
By order of the Maritime Administrator.
Joel C. Richard,
Secretary, Maritime Administration.

[FR Doc. 00-19368 Filed 8-2-00; 8:45 am]

BILLING CODE 4910-81-P